DEPARTMENT OF AGRICULTURE

Natural Resources Conservation Service

North Fork Powell River Watershed, Lee County, Virginia

AGENCY: Natural Resources Conservation Service, USDA.

ACTION: Notice of a finding of no significant impact.

SUMMARY: Pursuant to Section 102(2)(C) of the National Environmental Policy Act of 1969; the Council on Environmental Quality Guidelines (40 CFR Part 1500); and the Natural Resources Conservation Service Guidelines (7 CFR Part 650); the Natural Resources Conservation Service, U.S. Department of Agriculture, gives notice that an Environmental Impact Statement is not being prepared for the North Fork Powell River Watershed in Lee County, Virginia.

FOR FURTHER INFORMATION CONTACT: John A. Bricker, State Conservationist, USDA, Natural Resources Conservation Service, Culpeper Building, Suite 209, 1606 Santa Rosa Road, Richmond, Virginia 23229-5014, telephone (804) 287-1691.

SUPPLEMENTARY INFORMATION: The Environmental Assessment of this federally assisted action indicates that the project will not cause significant local, regional, or national impacts on the environment. As a result of these findings, John A. Bricker, State Conservationist, has issued a Finding of No Significant Impact and determined that the preparation and review of an Environmental Impact Statement is not needed for this project.

The project purposes are to improve water quality, improve fish and wildlife habitat, and reduce damages caused by acid mine drainage and excessive erosion and sedimentation. The recommended plan includes the installation of passive acid mine drainage treatment measures and/or erosion and sediment control practices on 39 sites in the North Fork Powell River Watershed in Lee County, Virginia. The watershed protection will be accomplished by the installation of measures on private lands.

The Notice of Finding of No Significant Impact (FONSI) has been forwarded to the Environmental Protection Agency and to various Federal, State and local agencies and interested parties. A limited number of copies of the FONSI are available to fill single-copy requests at the above address. Basic data developed during the Environmental Assessment are on file and may be reviewed by contacting John A. Bricker, State Conservationist.

No administrative action on implementation of the proposal will be taken until 30 days after the date of this publication in the Federal Register.

Dated: July 12, 2007.
John A. Bricker,
State Conservationist.

(This activity is listed in the Catalog of Federal Domestic Assistance under No. 10.901, Watershed and Flood Prevention, and is subject to the provisions of Executive Order 12372, which requires intergovernmental consultation with State and local officials).

[FR Doc. E7-14210 Filed 7-23-07; 8:45 am]

BILLING CODE 3410-16-P